DEPARTMENT OF THE INTERIOR

Fish and Wildlife Service

Preparation of an Environmental Impact Statement for Issuance of an Incidental Take Permit Associated With a Habitat Conservation Plan for the San Diego County Water Authority, California

AGENCY: Fish and Wildlife Service, Interior.

ACTION: Notice of intent.

SUMMARY: Pursuant to the National Environmental Policy Act (NEPA) of 1969, as amended, we, the U.S. Fish and Wildlife Service (Service) are advising the public that we intend to gather information necessary to prepare, in coordination with the San Diego County Water Authority (Authority), a joint programmatic Environmental Impact Report/Environmental Impact Statement (EIR/EIS) on the San Diego County Water Authority Subregional Natural Community Conservation Plan/Habitat Conservation Plan (NCCP/HCP) proposed by the Authority for portions of San Diego and Riverside County, California. The HCP is being prepared under section 10(a)(1)(B) of the Federal Endangered Species Act of 1973, as amended, (ESA); whereas the NCCP is being prepared under the State of California's Natural Community Conservation Planning Act.

The purpose of the EIR/EIS is to analyze the impacts of an incidental take permit which the Authority will request from the Service for 29 federally listed threatened or endangered species and 55 unlisted species, should they become listed under the ESA during the term of the permit. This analysis is needed under NEPA because the proposed Federal action of issuing an ESA permit may affect the human environment by authorizing take of listed species that could occur from development, operations, and maintenance activities over an approximately 2,034,787-acre planning area in roughly the coastal half of San Diego County and the extreme southwestern portion of Riverside County. The proposed NCCP/HCP would identify those actions necessary to maintain the viability of coastal sage scrub and other habitat types in the planning area.

We provide this notice to: (1) Advise other Federal and State agencies, affected Tribes, and the public of our intentions; (2) announce a public meeting and the initiation of a 30-day scoping period; and (3) obtain suggestions and information on the scope of issues to be included in the EIR/EIS. We invite written comments from interested parties to ensure that the full range of issues related to the permit request are identified.

DATES: The Service and the Authority will hold a joint public scoping meeting on December 11, 2003, from 10 a.m. until 12 noon. The Service will accept written comments at the meeting and for 30 days after the date of publication of this notice.

ADDRESSES: The meeting will be held at the San Diego County Water Authority Board Room, 4677 Overland Avenue, San Diego, California 92123. Comments should be sent to Mr. James Bartel, Field Supervisor, U.S. Fish and Wildlife Service, Carlsbad Fish and Wildlife Office, 6010 Hidden Valley Road, Carlsbad, California 92009; facsimile (760) 431-9624.

FOR FURTHER INFORMATION CONTACT: Sandra Marquez, Fish and Wildlife Biologist, U.S. Fish and Wildlife Service (see ADDRESSES), telephone (760) 431-9440 for general information; or if you have questions about the meeting, contact Tim Cass, Senior Water Resources Specialist, San Diego County Water Authority, telephone (858) 522-6758.

SUPPLEMENTARY INFORMATION:

Availability of Documents

Background material may be obtained by contacting Tim Cass by phone (see FOR FURTHER INFORMATION CONTACT) or by letter sent to the San Diego County Water Authority, 4677 Overland Avenue, San Diego, California 92123.

Background

Federal agencies are required to conduct NEPA analyses of their proposed actions to determine if the actions may affect the human environment. The Service expects to make a decision on issuance of an ESA section 10(a)(1)(B) permit application expected to be submitted by the Authority. Therefore, the Service is seeking public input on the scope of the required NEPA analysis, including the range of reasonable alternatives and associated impacts of any alternatives.

Section 9 of the ESA and Federal regulations prohibit the “take” of animal species listed as endangered or threatened. Take is defined under the ESA as follows: to harass, harm, pursue, hunt, shoot, wound, kill, capture or collect listed wildlife, or to attempt to engage in such conduct (16 U.S.C. 1538). Harm includes habitat modification that kills or injures wildlife by significantly impairing essential behavioral patterns, including breeding, feeding, or sheltering. Under limited circumstances, the Service may issue permits for take of listed species that is incidental to, and not the purpose of, otherwise lawful activities. Regulations governing permits for threatened and endangered species are found in 50 CFR 17.32 and 50 CFR 17.22.

If the Service decides to approve the NCCP/HCP, we would authorize incidental take of the California gnatcatcher and 11other identified federally listed animal species through issuance of an ESA incidental take permit. The NCCP/HCP, coupled with an Implementation Agreement, could also form the basis for issuing an incidental take permit for identified non-listed animal species, should these identified species be listed during the term of the permit. Although take of plant species is not prohibited under the ESA, section 9, identified plant species, both listed and unlisted, would be included on the permit in recognition of the conservation benefit provided for the species if the Service finds these species are adequately covered under the NCCP/HCP.

On March 25, 1993, the Service issued a Final Rule declaring the California gnatcatcher to be a threatened species (50 FR 16742). The Final Rule was followed by a Special Rule on December 10, 1993 (50 FR 65088) to allow take of the California gnatcatcher pursuant to section 4(d) of the ESA. The Special Rule defined the conditions under which take of the coastal California gnatcatcher resulting from specified land use activities regulated by state and local government, would not violate section 9 of the ESA. In the Special Rule the Service recognized the significant efforts undertaken by the State of California through the Natural Community Conservation Planning Act of 1991 and encouraged holistic management of listed species, like the coastal California gnatcatcher, and other sensitive species. The Service declared its intent to permit incidental take of the California gnatcatcher associated with land use activities covered by an approved subregional NCCP prepared under the NCCP Program, provided the Service determines that the subregional NCCP meets the issuance criteria of an incidental take permit pursuant to section 10(a)(1)(B) of the ESA and 50 CFR 17.32(b)(2). The Authority currently intends to obtain the Service's approval of the NCCP/HCP through a section 10(a)(1)(B) permit.

Proposed Action

The Service will prepare a joint EIR/EIS with the Authority, lead agency for the NCCP/HCP. The Authority will prepare an EIR in accordance with the California Environmental Quality Act. The Authority will publish a separate Notice of Preparation for the EIR.

The purpose of this subregional NCCP/HCP is to establish a long-term plan for the conservation of covered species and the habitats associated with Authority activities. The proposed NCCP/HCP will give the Authority increased regulatory certainty, and give the Service and the CDFG increased certainty that lands will be conserved to provide regional habitat resource protection. The Authority proposes to approach project design, implementation, and maintenance in a systematic, ecologically sensitive manner which focuses on the avoidance and minimization of impacts to sensitive species and habitats that may be affected by Authority activities. Authority activities subject to the NCCP/HCP are anticipated to include certain specific development projects (such as expansion of existing reservoirs, relocation of pipelines, and construction of new pipelines and support facilities) and operation and maintenance activities necessary to ensure the proper functioning of existing and future Authority facilities.

Preliminary Alternatives

The EIR/EIS for the San Diego County Water Authority Subregional NCCP/HCP will assist the Service during its decision making process by enabling us to analyze the environmental consequences of the proposed action and a full array of alternatives identified during preparation of the NCCP/HCP. Although specific programmatic alternatives for the proposed action have not been prepared for public discussion, the range of alternatives preliminarily identified for consideration include:

Alternative 1, No Action/Project-by-Project Authorization

The Authority would continue to seek permits for activities that could affect listed species through continuing project-by-project review and permitting pursuant to the National Environmental Policy Act and sections 7 and 10 of the ESA and in accordance with existing habitat management efforts. The Authority would not participate in an existing NCCP/HCP nor prepare their own plan.

Alternative 2, Participation in an Existing NCCP/HCP

The Authority would participate in one or more of the existing land-use-based subregional NCCP/HCPs in the region, such as the Multiple Species Conservation Program in the southern and central portions of San Diego County, the draft Multiple Species Habitat Conservation Program in the northwestern portion of San Diego County, and/or the draft Multiple Species Habitat Conservation Plan in southwestern Riverside County.

Service Scoping

We invite comments from all interested parties to ensure that the full range of issues related to the permit request are addressed and that all significant issues are identified. We will conduct environmental review of the permit application in accordance with the requirements of the NEPA of 1969 as amended (42 U.S.C. 4321 et seq.), its implementing regulations (40 CFR parts 1500 through 1508), and with other appropriate Federal laws and regulations, policies, and procedures of the Service for compliance with those regulations. We expect a draft EIR/EIS for the San Diego County Water Authority NCCP/HCP to be available for public review during Summer 2004.

Dated: November 20, 2003.
D. Kenneth McDermond,
Deputy Manager, California/Nevada Operations Office, Sacramento, California.

[FR Doc. 03-29605 Filed 11-25-03; 8:45 am]

BILLING CODE 4310-55-P